SECURITIES AND EXCHANGE COMMISSION

17 CFR Part 232

[Release Nos. 33-8590A; 34-52052A; 35-28002A; 39-2437A; IC-26990A; File No. S7-16-04]

RIN 3235-AH79

Rulemaking for EDGAR System

AGENCY: Securities and Exchange Commission.

ACTION: Final rule; technical amendment.

SUMMARY: The Securities and Exchange Commission published a document in the Federal Register on July 27, 2005 (70 FR 43558) expanding the information that we require certain investment company filers to submit to us electronically through our Electronic Data Gathering, Analysis, and Retrieval (EDGAR) system. That document contained an incorrect instruction to § 232.101(b). This document corrects § 232.101(b).

DATES: Effective Date: February 8, 2006.

FOR FURTHER INFORMATION CONTACT: Ruth Armfield Sanders, Senior Special Counsel, Division of Investment Management, at (202) 551-6989.

SUPPLEMENTARY INFORMATION: The Commission is making a technical correction to § 232.101 by adding paragraph (b)(9).

List of Subjects in 17 CFR Part 232

Administrative practice and procedure, Confidential business information, Reporting and recordkeeping requirements, Securities.

For the reasons set forth in the preamble, 17 CFR part 232 is amended as follows:

PART 232—REGULATION S-T—GENERAL RULES AND REGULATIONS FOR ELECTRONIC FILINGS

1. The authority citation for Part 232 continues to read in part as follows:

Authority: 15 U.S.C. 77f, 77g, 77h, 77j, 77s(a), 77sss(a), 78c(b), 78l, 78m, 78n, 78o(d), 78w(a), 78ll(d), 79t(a), 80a-8, 80a-29, 80a-30, 80a-37, and 7201 et seq.; and 18 U.S.C. 1350.

* * * * *

2. Amend § 232.101 by:

a. Removing the word “and” at the end of paragraph (b)(7);

b. Removing the period at the end of paragraph (b)(8) and in its place adding “; and”; and

c. Adding paragraph (b)(9).

The addition reads as follows.

§ 232.101 Mandated electronic submissions and exceptions.

* * * * *

(b) * * *

(9) Documents filed with the Commission pursuant to section 33 of the Investment Company Act (15 U.S.C. 80a-32).

* * * * *

Dated: February 8, 2006.
Jill M. Peterson,
Assistant Secretary.

[FR Doc. 06-1322 Filed 2-13-06; 8:45 am]

BILLING CODE 8010-01-P